DEPARTMENT OF THE INTERIOR

Bureau of Indian Affairs

[256A2100DD/AAKC001030/A0A51010.999900]

Proclaiming Certain Lands as Reservation for Snoqualmie Indian Tribe

AGENCY: Bureau of Indian Affairs, Interior.

ACTION: Notice of reservation proclamation.

SUMMARY: This notice informs the public that the Assistant Secretary—Indian Affairs proclaimed approximately 68.17 acres, more or less, an addition to the reservation of the Snoqualmie Indian Tribe.

DATES: This proclamation was made on October 31, 2024.

FOR FURTHER INFORMATION CONTACT: Ms. Carla Clark, Bureau of Indian Affairs, Division of Real Estate Services, 1001 Indian School Road NW, Box #44, Albuquerque, New Mexico 87104, carla.clark@bia.gov, (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The land was proclaimed to be the Snoqualmie Indian Tribe Reservation for Snoqualmie Indian Tribe in King County Washington.

Snoqualmie Indian Tribe Reservation for Snoqualmie Indian Tribe in King County Washington, Willamette Meridian King County, Washington, Legal Descriptions Containing 68.17 Acres, More or Less

130 T 1262

Parcel A

Beginning at a point on the South line of the Northwest quarter of section 31, Township 24 North, Range 8 east, W.M., 1741.29 feet South 88°51′11″ West of the Southeast corner of the Northwest corner of said Section 31;

Thence North 3°02′25″ West 627.28 feet of the South line of a 60 foot street;

Thence South 86°57′35″ West along said street 330.0 feet;

Thence South 3°02′25″ East 616.36 feet to the South line of said Northwest quarter of said Section 31;

Thence North 88°51′11″ East along said South line of said Northwest quarter of said Section 31, 330.18 feet to the Point of Beginning, in King County, Washington.

(Also known as Lot 4, Block 3, of the unrecorded Plat of SI View Acre Tracts)

Parcel B

That portion of the Northwest quarter of Section 31, Township 24 North, Range 8 East, W.M., in King County, Washington, described as follows:

Beginning at a point on the section line between Section 31. Township 24 North, Range 8 East, W.M., in King County, Washington and Section 36, Township 24 North, Range 8 East, W.M., in King County, Washington, 628.28 feet North 0°30′14″ West of the one-quarter corner between said Sections 31 and 36;

Thence North 86°57′35″ East 226.80 feet;

Thence North 3°02′25″ West 30.0 feet;

Thence North 86°57′35″ East 630 feet to the West line of Weathervane Lane Estates, according to the plat thereof recorded in Volume 88 of Plats, page 29, in King County, Washington;

Thence North 3°02′25″ West along said West line 660 feet;

Thence South 86°57′35″ West to the section line between Sections 31 and 36;

Thence South 0°30′14″ East along the section line 690.64 feet to the Point of Beginning; except that portion described as follows:

The West 256 feet in width of that portion of the Northwest quarter of Section 31, Township 24 North, Range 8 East, W.M., in King County, Washington, described as follows:

Beginning at a point on the section line between Section 31, Township 24 North, Range 8 East, W.M., in King County, Washington and Section 36, Township 24 North, Range 8 East, W.M., in King County, Washington, 628.28 feet North 0°30′14″ West of the one-quarter corner between said Sections 31 and 36;

Thence North 86°57′35″ East 226.80 feet;

Thence North 3°02′25″ West 30.0 feet;

Thence North 86°57′35″ East 374 feet to the True Point of Beginning;

Thence North 86°57′35″ East 586 feet to the west line of that certain tract of land described in deed recorded under Recording Number 3324383, King County Building Co., Grantor, to Ernest C. Crawford and Helen G. Crawford, his wife, Grantees;

Thence North 3°02′25″ West, 660 feet to a point North 86°5T35″ East 1098.74 feet and South 3°02′25″ East; 1305.79 feet from the Northwest corner of said Section 31;

Thence South 86°57′35″ West 586 feet;

Thence South 0º30′14″ East 660 feet to the True Point of Beginning.

(Also known as Lot 5, and the West 74 feet of Lot 4, Block 4, SI View Acre Tracts, according to the unrecorded plat thereof).

Situate in the County of King, State of Washington.

Parcel C

That portion of the South 265.14 feet of the North half of the Southeast quarter of the Northeast quarter of Section 36, Township 24 North, Range 7 East, W.M. in King County, Washington, lying Easterly of County Road;

Except the Northern Pacific Railway Spur Right-of-Way;

Situate in the County of King, State of Washington.

Parcel D

That portion of the North half of the Southeast quarter of the Northeast quarter of Section 36, Township 24 North, Range 7 East, W.M. in King County, Washington, lying Easterly of County Road;

Except the South 265.14 feet thereof;

And except the Northern Pacific Railway Spur Right of Way.

Situate in the County of King, State of Washington.

126 T 1002

Parcel A

That portion of the Southwest quarter of the Southeast quarter of Section 19, Township 24 North, Range 8 East, Williamette Meridian, in King County, Washington, lying Westerly of the Westerly margin of Tokul Road Southeast (also known as Adolph Weller County Road).

Parcel B

That portion of Government Lot 8 in Section 30, Township 24 North, Range 8 East, Williamette Meridian, in King County, Washington, lying Westerly of the Westerly margin of Tokul Road Southeast (also known as Adolph Weller County Road).

Parcel C

Lot B of City of Snoqualmie lot line adjustment No. 89004, recorded May 30, 1989 under Recording No. 8905300788, in King County, Washington;

Except that portion conveyed to the City of Snoqualmie, a Washington Municipal Corporation, as disclosed by statutory Warranty Deed, recorded June 30, 2005, under Recording No. 20050630001949.

Parcel D

That portion of the following described property lying East of the East margin of the right of way of State Road No. 2 (also known as SR 202), lying in Government Lots 2, 3 and 4, Section 19, Township 24 North, Range 8 East, Williamette Meridian, in King County, Washington, and being more particularly described as follows:

Beginning at the South quarter corner of said Section 19; thence along the East line Government Lot 3, North 0°29′50″ East a distance of 1,322.18 feet to the Northeast corner of said Lot 3;

Thence along the North line of said Lots 3 and 2 North 89°02′00″ West a distance of 2,290 feet, more or less, to the left bank of the Snoqualmie River;

Thence Northerly along said left bank of the river to the West line of said Section 19;

Thence along the West line of said Section 19, South 1°21′20″ West a distance of 1,660 feet, more or less, to the Southwest corner of said Section 19;

Thence along the South line of said Section 19, South 88°50′20″ East a distance of 377.16 feet;

Thence North 5°49′20″ West a distance of 44.19 feet; thence North 15°12′20″ East a distance of 56.04 feet;

Thence North 8°06′10″ West a distance of 198.73 feet;

Thence North 60°13′00″ West a distance of 120.23 feet;

Thence North 11°48′20″ East a distance of 208.86 feet;

Thence North 0°53′00″ East a distance of 213.90 feet;

Thence North 21°33′20″ West a distance of 45.59 feet;

Thence South 78°52′20″ East a distance of 489.80 feet;

Thence South 21°27′00″ West a distance of 184.22 feet;

Thence South 31°28′10″ East a distance of 89.19 feet;

Thence North 55°33′50″ East a distance of 630.43 feet;

Thence South 35°23′40″ East a distance of 1,054.95 feet to a point on the South line of the said section;

Thence along said South line South 88°50′20″ East a distance of 595.86 feet to the Point of Beginning.

Parcel E

A parcel of land in Government Lot 9 or Section 30, Township 24 North, Range 8 East, Williamette Meridian, in King County, Washington, and being more particularly described as follows:

Beginning at a point on the Southerly right of way line of Washington State Road No. 2, said point being South 0°22′10″ West along the North-South quarter section line a distance of 1,009.43 feet and North 41°21′10″ West along the Southerly road right of way line a distance of 628.33 feet from the North quarter corner of said Section 30;

Thence along the Southerly right of way line of State Road No. 2, North 41°21′10″ West a distance of 101.47 feet;

Thence along the arc of a 766.3 foot radius curve to the right, the chord of which bears North 31°15′10″ West a distance of 268.78 feet;

Thence North 21°09′10″ West a distance of 28.44 feet;

Thence leaving said Southerly right of way line South 66°47′30″ West a distance of 139.44 feet;

Thence South 35°12′40″ East a distance of 28.44 feet;

Thence South 10°11′00″ West a distance of 160.45 feet;

Thence South 16°14′30″ West a distance of 44.49 feet;

Thence South 48°49′30″ East a distance of 48.54 feet;

Thence South 67°25′50″ East a distance of 40.35 feet;

Thence North 72°16′30″ East a distance of 46.73 feet;

Thence South 89°03′20″ East a distance of 39.47 feet;

Thence South 63°46′10″ East a distance of 28.33 feet;

Thence South 49°59′20″ East a distance of 22.27 feet;

Thence South 83°07′20″ East a distance of 160.44 feet;

Thence South 48°38′50″ East a distance of 19.84 feet to the Point of Beginning.

Parcel F

Lot A of City of Snoqualmie lot line adjustment No. LLA-96-01, recorded September 30, 1996, under Recording No. 9609309004, in King County, Washington. more thoroughly described as follows:

A parcel of land located in the Southwest quarter of Section 19, Township 24 North, Range 8 East, Williamette Meridian, in King County, Washington;

More particularly described as follows:

Commencing at the South quarter corner of said Section 19, thence 88°50′20″. West along the South line of said section, a distance of 756.09 feet;

Thence North 10°9′40″ East, a distance of 148.30 feet to the True Point of Beginning;

Thence South 14°55′55″ West, a distance of 29.29 feet;

Thence North 60°38′05″ West, a distance of 18.73 feet to a point on a curve concaved to the Southeast and having a radius of 55.03 feet, a radial line of said curve through said point bearing North 51°15′30″ West;

Thence Southwesterly along said curve through a central angle of 25°11′21″, an arc distance of 24.19 feet; thence South 63°46′21″ West, a distance of 16.50 feet; hence North 28°58′50″ West, a distance of 17.00 feet; thence North 77°08′4T West, a distance of 94.52 feet;

Thence North 292°34′42″ West, a distance of 94.52 feet to a point on a curve concaved to the South and having a radius of 299.27 feet, a radial line of said curve through said point bearing North 21°04′58″ West;

Thence easterly along said curve through a central angle of 18°56′12″, an arc distance of 98.91 feet;

Thence South 33°44′20″ East, a distance or 95.32 feet to the True Point of Beginning and containing 11.241 square feet, more or less.

The above described lands contain a total of 68.17 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-26183 Filed 11-8-24; 8:45 am]

BILLING CODE 4337-15-P